FEDERAL TRADE COMMISSION

Report of the “Tar,” Nicotine, and Carbon Monoxide of the Smoke of 1294 Varieties of Domestic Cigarettes for the Year 1998

ACTION: Notice.

SUMMARY: The Federal Trade Commission publishes the “Report of the ‘Tar,’ Nicotine, and Carbon Monoxide of the Smoke of 1294 Varieties of Domestic Cigarettes for the Year 1998.”

DATES: July 12, 2000.

ADDRESSES: Copies of the report are available from the FTC's World Wide Web site at: http:www.ftc.gov and from the FTC's Public Reference Branch, Room 130, 600 Pennsylvania Ave. NW., Washington, DC 20580. Telephone (202) 326-3128.

FOR FURTHER INFORMATION CONTACT: Michael Ostheimer, Staff Attorney, Federal Trade Commission, Bureau of Consumer Protection, 600 Pennsylvania Ave. NW., Washington, DC 20580. Telephone (202) 326-2699.

SUPPLEMENTARY INFORMATION: This report contains data on the “tar,” nicotine, and carbon monoxide yields of 1294 varieties of cigarettes manufactured and sold in the United States in 1998. The Tobacco Institute Testing Laboratory (TITL), a private laboratory operated by the cigarette industry, conducted the “tar,” nicotine, and carbon monoxide testing for the widely-available domestic cagarette varieties. TITL provided the results to the respective cigarette companies, which then provided the data generated by TITL regarding their own brands to the Commission in response to compulsory process. Cigarette smoke from generic, private label, and not-widely-available cigarettes was not tested by TITL, but was tested by the cigarette companies and the test results were provided to the FRC in response to compulsory process.

In response to concerns that have been raised regarding the accuracy and utility of the testing method currently used to determine the “tar,” nicotine, and carbon monoxide ratings of cigarettes, the Commission in 1998 requested the assistance of the Department of Health and Human Services in reviewing the scientific and public health questions surrounding the test method and, if appropriate, determining how the test method should be changed. In its two most recent reports to Congress pursuant to the Federal Cigarette Labeling and Advertising Act, the Commission has recommended that Congress consider giving authority over cigarette testing to one of the Federal government's science-based, public health agencies.

By direction of the Commission.
Donald S. Clark,
Secretary.

[FR Doc. 00-17588 Filed 7-11-00; 8:45 am]

BILLING CODE 6750-01-M